DEPARTMENT OF THE INTERIOR

National Park Service

Concession Contracts and Permits: Expiring Contracts; Extension for up to One Year

AGENCY: National Park Service, Interior.

ACTION: Public notice.

SUMMARY: Pursuant to the terms of existing concession permits, with the exception of construction on National Park Service lands, public notice is hereby given that the National Park Service intends to provide visitor services under the authority of a temporary concession contract with a term not to exceed December 31, 2003, or until such time as a new contract is awarded, whichever occurs sooner.

SUPPLEMENTARY INFORMATION: The permits listed below have been extended to the maximum allowable under 36 CFR 51.23. Under the provisions of current concession permits, with one exception, and pending the development and public solicitation of a prospectus for a new concession permit, the National Park Service authorizes continuation of visitor services under a temporary concession contract for a period not to exceed December 31, 2003, or until such time as a new contract is awarded, whichever occurs sooner. The exception precludes construction on National Park Service lands, regardless of whether the current permit authorizes such activity, the temporary contract does not affect any rights with respect to selection for award of a new concession contract.

Concessioner ID No. | Concessioner name | Park
GOGA002 | Council of American Youth Hostels (Fort Mason) | Golden Gate NRA.
GOGA003 | Council of American Youth Hostels (Fort Barry) | Golden Gate NRA.
GOGA004 | Park Host | Golden Gate NRA.
MORA004 | John P. Squires | Mount Rainier National Park.
OLYM048 | Wildwater River Tours | Olympic National Park.
OLYM057 | Olympic Raft and Guide Service | Olympic National Park.
PORE001 | Drakes Beach Snack Bar | Point Reyes National Seashore.
PORE002 | Five Brooks Stables | Point Reyes National Seashore.
REDW001 | American Youth Hostels, Inc | Redwoods National Park.
USAR001 | Division of Vocational Rehabilitation | U.S.S. Arizona Memorial.

EFFECTIVE DATE: January 2, 2003.

FOR FURTHER INFORMATION CONTACT: Cynthia Orlando, Concession Program Manager, National Park Service, 1849 C Street, NW (2410), Washington, DC, 20240, Telephone, 202/513-7144.

Dated: November 26, 2002.
Richard M. Cripe,
Associate Director, Administration, Workforce Development and Business Practices.

[FR Doc. 02-32163 Filed 12-20-02; 8:45 am]

BILLING CODE 4310-70-M